DEPARTMENT OF LABOR

Employment and Training Administration

[TA-W-63,156]

Amended Certification Regarding Eligibility To Apply for Worker Adjustment Assistance, etc.: Temic Automotive of North America, Inc., Elma, NY, et al.; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on April 15, 2008, applicable to workers of Temic Automotive of North America, Inc., a wholly-owned subsidiary of Continental Automotive Group, including on-site leased workers from Manpower Inc., Adecco, and USA Inc., Elma, New York. The notice was published in the Federal Register on May 2, 2008 (73 FR 24318).

At the request of a firm official, the Department reviewed the certification for workers of the subject firm. The subject firm workers produce automotive electronics, including pressure sensors, transmission controls, and power steering controllers and are not separately identifiable by product.

New information shows that workers leased from Linc Facility Services, Clean Sweep Janitorial Services Inc., Securitas Security Services USA Inc., Next Generation Vending and Food Services, and MECU were working on-site at the Elma, New York location of the subject firm. The Department has determined that these workers were sufficiently under the control of the subject firm to be considered leased workers.

Based on these findings, the Department is amending this certification to leased workers of Linc Facility Services, Clean Sweep Janitorial Services Inc., Securitas Security Services USA Inc., Next Generation Vending and Food Services, and MECU working on-site at the Elma, New York location of the subject firm.

The intent of the Department's certification is to include all workers of the subject firm who were adversely affected by a shift of production to a foreign country which is party to a free trade agreement with the United States.

The amended notice applicable to TA-W-63,156 is hereby issued as follows:

All workers of Temic Automotive of North America, Inc., a wholly-owned subsidiary of Continental Automotive Group, including on-site leased workers from Manpower Inc., Adecco, USA Inc., Linc Facility Services, Clean Sweep Janitorial Services Inc., Securitas Security Services USA Inc., Next Generation Vending and Food Services, and MECU, Elma, New York, who became totally or partially separated from employment on or after April 7, 2007, through April 15, 2010, are eligible to apply for adjustment assistance under Section 223 of the Trade Act of 1974, and are also eligible to apply for alternative trade adjustment assistance under Section 246 of the Trade Act of 1974.

Signed at Washington, DC, this 30th day of September 2009.
Elliott S. Kushner,
Certifying Officer, Division of Trade Adjustment Assistance.

[FR Doc. E9-25155 Filed 10-19-09; 8:45 am]

BILLING CODE 4510-FN-P